DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its forty-fourth meeting:

Name: National Advisory Committee on Rural Health and Human Services

Dates and Times: September 7, 2003, 1 p.m.-5:30 p.m.; September 8, 2003, 8 a.m.-5 p.m.; September 9, 2003, 8 a.m.-10:30 a.m.

Place: Embassy Suites, 300 Court Street, Charleston, WV 25301, Telephone: 304-347-8700.

Status: The meeting will be open to the public.

Purpose: The National Advisory Committee on Rural Health and Human Services provides advice and recommendations to the Secretary with respect to the delivery, research, development, and administration of health and human services in rural areas.

Agenda: Sunday afternoon, September 7, at 1 p.m. the Chairperson, the Honorable David Beasley, will open the meeting and welcome the Committee. The first session will open with a discussion of the Committee business and a review of the 2004 workplan by the Honorable David Beasley and the Office of Rural Health Policy (ORHP) Acting Deputy Director, Mr. Tom Morris. This will be followed by a dialogue about the broad health and human services issues in West Virginia. The Committee will receive presentations on aging issues, oral health and the integration of primary care and behavioral health.

Monday morning, September 8, at 9 a.m., the Committee will break into Subcommittees and conduct site visits of local health and human services agencies. Transportation to these locations will not be provided to the public. The Committee will reconvene at 2 p.m. to discuss the site visits and draft the 2004 report.

The final session will be convened Tuesday morning, September 9, at 8 a.m. The Committee will review the site visits and the draft 2004 report. The meeting will conclude with a discussion of the February 2004 meeting. The meeting will be adjourned at 10:30 a.m.

FOR FURTHER INFORMATION CONTACT: Anyone requiring information regarding the Committee should contact Tom Morris, MPA, Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray-Gibson, Office of Rural Health Policy, Telephone (301) 443-0835.

The Committee meeting agenda will be posted on ORHP's Web site http://www.ruralhealth.hrsa.gov.

Dated: July 28, 2003.
Jane M. Harrison,
Director, Division of Policy Review and Coordination.

[FR Doc. 03-19801 Filed 8-4-03; 8:45 am]

BILLING CODE 4165-15-P